DEPARTMENT OF THE INTERIOR

National Park Service

National Capital Memorial Advisory Commission; Notice of Public Meeting

AGENCY: National Park Service, Department of the Interior.

ACTION: Notice of meeting.

SUMMARY: Notice is hereby given that the National Capital Memorial Advisory Commission (the Commission) plans to meet at the National Building Museum, Room 312, 401 F Street, NW., Washington, DC, on Wednesday, April 21, 2010, at 1 p.m.

The meeting will be open to the public. Persons who wish to file a written statement or testify at the meeting or who want further information concerning the meeting may contact Ms. Nancy Young, Secretary to the Commission. Before including your address, phone number, e-mail address, or other personal identifying information in your comment, you should be aware that your entire comment—including your personal identifying information—may be made publicly available at any time. While you can ask us in your comment to withhold your personal identifying information from public review, we cannot guarantee that we will be able to do so.

The purpose of the meeting will be to discuss currently authorized and proposed memorials in the District of Columbia and its environs.

In addition to discussing general matters and conducting routine business, the Commission will consider the following:

I. Design Consultation—Dwight D. Eisenhower Memorial.

II. Review of Legislation Pending in the 111th Congress:

(a) H.R. 4197, A bill to authorize the Gold Star Mothers National Monument Foundation to establish a national monument in the District of Columbia.

(b) H.R. 4195, A bill to authorize the Peace Corps Commemorative Foundation to establish a commemorative work in the District of Columbia and its environs to commemorate the establishment of the Peace Corps and to honor the ideals upon which it was founded.

(c) H.R. 4036, a bill to authorize the National Mall Liberty Fund DC to establish a memorial on Federal land in the District of Columbia to honor free persons and slaves who fought for independence, liberty, and justice for all during the American Revolution.

III. Consideration of a draft revision to the Commission's bylaws.

DATES: Wednesday, April 21, 2010.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service.

Administrator, General Services Administration.

Chairman, National Capital Planning Commission.

Chairman, Commission of Fine Arts.

Mayor of the District of Columbia.

Architect of the Capitol.

Chairman, American Battle Monuments Commission.

Secretary of Defense.

Dated: March 9, 2010.
Peggy O'Dell,
Regional Director, National Capital Region.

[FR Doc. 2010-7615 Filed 4-2-10; 8:45 am]

BILLING CODE 4310-70-P